DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Population Health Subcommittee Meeting.

Time and Date

November 17, 2015 8:30 a.m.-5:00 p.m. EST

Place: Centers for Disease Control and Prevention, National Center for Health Statistics, 3311 Toledo Road, Auditorium A and B, Hyattsville, Maryland 20782, (301) 458-4524.

Status: Open.

Purpose

On November 17, 2015, the NCVHS Population Health Subcommittee is holding a Workshop entitled “Advancing Community-Level Core Measurement—Proposing a Roadmap for HHS.” The Workshop objectives are to: Identify a balanced and parsimonious set of domains through which multi-sectoral community partnerships can assess, measure and improve local health and well-being, and; ultimately produce a proposed Roadmap for the Department of Health and Human Services to advance well-informed, community-driven action by promoting such set of domains along with suggested measures to facilitate greater availability and use of data within communities.

During the Workshop, participants will review the range of domains in current use for assessing community health and well-being with the aim of identifying a balanced set that encompasses the key determinants of health and that is consistent across all geographic levels. Recent efforts to streamline community health assessment have brought a new focus to the need to achieve parsimony in measuring health and well-being. This Workshop aims to leverage the momentum of both recent and long-standing projects by the IOM, Robert Wood Johnson Foundation (e.g., Community Health Rankings), data intermediary organizations, federal agencies (e.g., Community Health Status Indicators), state agencies, NCVHS, and others.

Contact Person for More Information: Substantive program information may be obtained from Rebecca Hines, Executive Secretary, NCVHS, National Center for Health Statistics, Centers for Disease Control and Prevention, 3311 Toledo Road, Room 6316, Hyattsville, Maryland 20782, telephone (301) 458-4715. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: October 28, 2015.
James Scanlon,
Deputy Assistant Secretary for Science and Data Policy, Office of the Assistant Secretary for Planning and Evaluation.

[FR Doc. 2015-28345 Filed 11-5-15; 8:45 am]

BILLING CODE 4151-05-P